DEPARTMENT OF JUSTICE

Notice of Lodging of Consent Decree Under the Comprehensive Environmental Response, Compensation, and Liability Act (CERCLA) and Clean Water Act (CWA)

Notice is hereby given that on January 22, 2008, a proposed Consent Decree (Decree) in the case of United States, et al. v. United States Steel Corp., Civil Action No. 08-CV-4091-RDR-KGS, was lodged with the United States District Court for the District of Kansas. The United States, the Kansas Department of Health and Environment (KDHE), and the Secretary of KDHE (the federal and state trustees) filed the complaint in their capacities as natural resource trustees. The federal and state trustees seek recovery of natural resources for natural resource damages in connection with the Cherokee Lanyon #2 Site and the Girard Zinc Site (together, the Sites) in Girard, Kansas and the surrounding area. The Complaint alleges that the defendant, United States Steel Corporation (U.S. Steel), is liable as an owner or operator of smelters that were located at each of the Sites, or as a successor to owners or operators of the smelters.

The Decree would settle the claims for injuries to natural resources at the Site in return for a total payment of $133,400, which includes $123,255 for restoration projects and $10,145 for reimbursement of natural resource damage assessment costs incurred by the federal and state trustees. As specified by the Decree, the joint recovery for restoration work would be deposited in the Natural Resource Damage Assessment and Restoration Fund administered by the United States Department of the Interior, and the federal and state trustees would make joint decisions concerning future restoration expenditures in accordance with a restoration plan that they would prepare.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States, et al. v. United States Steel Corp., D.J. Ref. No. 90-11-3-08705/2.

The Decree may be examined at the Office of the United States Attorney, 1200 Epic Center, 301 N. Main, Wichita, Kansas 67202. During the comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $5.50 (25 cents per page reproduction cost) payable to the United States Treasury or, if by e-mail or fax, forward a check in that amount to the Consent Decree Library at the stated address.

Robert E. Maher, Jr.,
Assistant Section Chief, Environmental Enforcement Section, Environment and Natural Resources Division.

[FR Doc. E8-1921 Filed 2-1-08; 8:45 am]

BILLING CODE 4410-15-P